ENVIRONMENTAL PROTECTION AGENCY

[EPA-HQ-OPP-2006-0084; FRL-8073-6]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations and providing a public comment period.

DATES: Unless a request is withdrawn by December 26, 2006 or July 28, 2006 for registrations for which the registrant requested a waiver of the 180-day comment period, orders will be issued canceling these registrations. The Agency will consider withdrawal requests postmarked no later than December 26, 2006 or July 28, 2006, whichever is applicable. Comments must be received on or before December 26, 2006 or July 28, 2006, for those registrations where the 180-day comment period has been waived.

ADDRESSES: Submit your comments and your withdrawal request, identified by docket identification (ID) number EPA-HQ-OPP-2006-0084, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. Written withdrawal requests should be to the Attention of: John Jamula, Information Technology and Resources Management Division (7502P), at the address under FOR FURTHER INFORMATION CONTACT.

• Delivery: OPP Regulatory Public Docket (7502P), Environmental Protection Agency, Rm. S-4400, One Potomac Yard (South Building), 2777 S. Crystal Drive, Arlington, VA. Deliveries are only accepted during the Docket's normal hours of operation (8:30 a.m. to 4 p.m., Monday through Friday, excluding legal holidays). Special arrangements should be made for deliveries of boxed information. The Docket telephone number is (703) 305-5805.

Instructions: Direct your comments to docket ID number EPA-HQ-OPP-2006-0084. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

>

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 184 pesticide products registered under section 3 or 24(c) of FIFRA. These registrations are listed in sequence by registration number (or company number and 24(c) number) in the following Table 1:

Table 1.—Registrations With Pending Requests for Cancellation
Registration no. | Product Name | Chemical Name
000004-00157 | Bonide Vegetables and Fruit Trees Spray | Carbaryl
|  | Malathion
000004-00443 | Micro Flow Slug N Snail Plus | Metaldehyde
|  | Carbaryl
000070-00165 | Kill-Ko 10% Sevin Dust | Carbaryl
000241-00340 | Pendulum WDG Herbicide | Pendimethalin
000241 OR-96-0026 | Assert Herbicide | Imazamethabenz
000264-00661 | Dropp Ultra | Diuron
|  | Thidiazuron
000264 OR-03-0014 | Admire 2 Flowable | Imidacloprid
000264 WA-00-0001 | Guthion Solupak 50% Wettable Powder Insecticide | Azinphos-Methyl
000264 WA-01-0031 | Stratego Fungicide | Propiconazole
|  | Trifloxystrobin
000264 WA-01-0039 | Axiom DF Herbicide | Metribuzin
|  | Flufenacet
000264 WA-02-0011 | Axiom DF Herbicide | Metribuzin
|  | Flufenacet
000264 WA-84-0036 | Di-Syston 8 | Disulfoton
000264 WA-93-0003 | Sencor DF 75% Dry Flowable Herbicide | Metribuzin
000264 WA-94-0041 | Sencor DF 75% Dry Flowable Herbicide | Metribuzin
000264 WA-97-0003 | Sencor DF 75% Dry Flowable Herbicide | Metribuzin
000264 WA-98-0004 | Di-Syston 15% Granular Systemic Insecticide | Disulfoton
000279 WA-03-0009 | Aim Herbicide | Carfentrazone-ethyl
000352 LA-03-0001 | Dupont K-4 Herbicide | Diuron
|  | Hexazinone
000352 WA-00-0008 | Dupont Oust Herbicide | Sulfometuron
000352 WA-93-0002 | Dupont Krovar I DF Herbicide | Bromacil
|  | Diuron
000352 WA-95-0021 | Dupont Oust Herbicide | Sulfometuron
000400-00438 | Vitavax Extra | Thiabendazole
|  | Carboxin
|  | Imazalil
000400-00439 | Vitavax-Plus Flowable Fungicide | Thiabendazole
|  | Carboxin
000432-00892 | Chipco Brand Three Herbicide | Benzoic acid, 3,6-dichloro-2-methoxy-, compd with N-methylmethanamine (1:1)
|  | MCPA, dimethylamine salt
|  | Mecoprop, dimethylamine salt
000432-01396 | Vision Lawn Weed Eliminator Concentrate | Benzoic acid, 3,6-dichloro-2-methoxy-, compd with N-methylmethanamine (1:1)
|  | 2,4-D, dimethylamine salt
|  | Mecoprop, dimethylamine salt
000432-01397 | Vision Lawn Weed Eliminator Ready-To-Spray | Benzoic acid, 3,6-dichloro-2-methoxy-, compd with N-methylmethanamine (1:1)
|  | 2,4-D, dimethylamine salt
|  | Mecoprop, dimethylamine salt
000432-01398 | Vision Lawn Weed Eliminator Ready-To-Use | Benzoic acid, 3,6-dichloro-2-methoxy-, compd with N-methylmethanamine (1:1)
|  | 2,4-D, dimethylamine salt
|  | Mecoprop, dimethylamine salt
000464-00703 | Ucarcide 750 Antimicrobial | Glutaraldehyde
000464-00708 | Piror 825 Slimicide | Glutaraldehyde
000464-00715 | Ucarsan 442 Sanitizer | Glutaraldehyde
|  | Alkyl* dimethyl benzyl ammonium chloride *(50%C14, 40%C12, 10%C16)
000464-00716 | Ucarsan 414 Sanitizer | Glutaraldehyde
|  | Alkyl* dimethyl benzyl ammonium chloride *(50%C14, 40%C12, 10%C16)
000524 ND-04-0006 | RT Master II Herbicide | Glycine, N-(phosphonomethyl)- potassium salt
000524 SD-04-0009 | RT Master II Herbicide | Glycine, N-(phosphonomethyl)- potassium salt
000769-00229 | 10% Sevin Dust | Carbaryl
000829-00211 | SA-50 Brand Balfin Granules | Benfluralin
001381-00193 | Tundra EC | Bifenthrin
001386-00587 | Unico MCPA 4 Amine Weed Killer | MCPA, dimethylamine salt
001812-00455 | Diuron Technical | Diuron
001812 FL-99-0002 | Direx 80DF | Diuron
001812 HI-00-0002 | Direx 4L | Diuron
001812 MS-01-0034 | Direx 4L | Diuron
001812 MS-01-0035 | Direx 80DF | Diuron
001812 TX-00-0011 | Direx 80DF | Diuron
001812 WA-00-0019 | Declare | Methyl parathion
001812 WA-00-0036 | Linex 50 DF | Gas cartRidge (as a device for burrowing animal control)
|  | Linuron
001812 WA-99-0034 | Direx 80DF | Diuron
004581 WA-00-0012 | Penncap-M Microencapsulated Insecticide | Methyl parathion
005481-00010 | Alco Malathion 57 Spray Concentrate | Malathion
005481-00123 | Durham Malathion EM-8 | Malathion
005481-00136 | Alco Malathion 5 Spray | Malathion
005481-00139 | Alco Malathion 8 Spray | Malathion
005481-00210 | Amvac Malathion 91% Technical | Malathion
005481-00238 | 50% Malathion Emulsifiable Concentrate | Malathion
005481-00242 | Kon-Trold Roost Paint and Cage Spray | Carbaryl
|  | Malathion
005481-00259 | Royal Brand Malathion 5-E | Malathion
005481-00275 | Two Way Vegetable Dust | Carbaryl
|  | Malathion
007173 WA-78-0061 | Rozol Paraffinized Pellets | Chlorophacinone
007401-00072 | Ferti-Lome Improved Bug Bait | Metaldehyde
|  | Carbaryl
007401-00081 | Ferti-Lome Carbaryl-Sulfur 10-40 Dust | Carbaryl
|  | Sulfur
007401-00083 | Ferti-Lome Carbaryl Garden Spray | Carbaryl
007401-00148 | Sevin and Molasses Insect Bait | Carbaryl
007401-00154 | 10% Sevin Dust | Carbaryl
007401-00210 | Hi-Yield Sevin Emulisfiable Concentrate | Carbaryl
007401-00291 | Hi-Yield Mater-Tater and Other Vegetable Dust | Carbaryl
007401-00310 | Hi-Yield Sevin Plus Dipel Dust | Bacillus thuringiensis (Berliner)
|  | Carbaryl
007401-00334 | Hi-Yield Sos Garden Dust | Carbaryl
|  | Sulfur
007401-00386 | Ferti-Lome Gypsy Moth, Japanese Beetle and Pine Moth | Carbaryl
007401-00410 | American Brand Oftanol Season Long White Grub Control | Isofenphos
008660-00006 | Sta-Green Crabgrass Preventer with Fertilizer 25-3-3 | Benfluralin
008660-00008 | Sta-Green Pre-Emergence Crabgrass Preventer with Balan | Benfluralin
008660-00016 | Sta-Green “C-G” Preventer Plus W/30-2-9 Fertilizer | Benfluralin
|  | Oryzalin
008660-00019 | Sta-Green Crabgrass Preventer Plus Lawn Fertilizer | Trifluralin
|  | Benfluralin
008660-00026 | Vertagreen Weed and Feed for Professional Turf | Benfluralin
008660-00027 | Vertagreen Crabgrass Preventer with Balan | Benfluralin
008660-00030 | Vertagreen Fertilizer for Professional Turf w/Balan | Benfluralin
008660-00037 | Vertagreen Crabgrass Control | Benfluralin
008660-00038 | Vertagreen Fertilizer for Prof. Use 22-3-9 | Benfluralin
008660-00039 | Vertagreen for Professional Use with Balan 16-6-8 | Benfluralin
008660-00040 | Vertagreen Crabgrass Preventer Plus Turf Food | Benfluralin
008660-00042 | Vertagreen Lawn Food and Crabgrass Prevent. 25-3-5 | Benfluralin
008660-00074 | Pro-Teck with Balan | Benfluralin
008660-00096 | Vertagreen for Professional Use w/balan 25% Granules | Benfluralin
008660-00099 | Proteck-Plus_contains Balan | Benfluralin
008660-00104 | Vertagreen Proteck 3-Way | Benzoic acid, 3,6-dichloro-2-methoxy-, compd with N-methylmethanamine (1:1)
|  | 2,4-D, dimethylamine salt
|  | Benfluralin
008660-00107 | Greenup Benefin - 10 Plus | Benfluralin
008660-00112 | Vertagreen Fertilizer for Professional Use with Balan | Benfluralin
008660-00113 | Vertagreen Fertilizer for Professional Use with Balan | Benfluralin
008660-00130 | Turf-Pro Balan 2.5% Plus Pre-Emergent Herbicide Plus 30 | Benfluralin
008660-00139 | Vertagreen Fertilizer for Professional Use with Balan | Benfluralin
|  | Oryzalin
008660-00143 | Vertagreen Fertilizer for Professional Use with Team | Trifluralin
|  | Benfluralin
008660-00146 | Vertagreen Pre-Emergence Weed and Feed | Benfluralin
|  | Oryzalin
008660-00149 | Vertagreen Lawn Food with Crabgrass Control | Trifluralin
|  | Benfluralin
008660-00151 | Vertagreen for Professional Turf with Team | Trifluralin
|  | Benfluralin
008660-00186 | Gro-Tone Crabgrass Preventer Plus Lawn Fertilizer | Benfluralin
008660-00192 | HWI R Your Link To Value R Lawn Fertilizer | Benfluralin
008660-00225 | Premium Fairway Food with Crabgrass and POA | Benfluralin
008660-00227 | Premium Green Turf Lawn Food with Weed Control II | MCPA, dimethylamine salt
|  | Dimethylamine 2-(2,4-dichlorophenoxy)propionate
|  | Mecoprop, dimethylamine salt
008660-00235 | Vigoro Crabgrass Preventer Plus Lawn Fertilizer | Benfluralin
008660-00236 | Vigoro Crabgrass Preventer Plus Lawn Food Northern Form | Benfluralin
008660-00237 | Vigoro Crabgrass Preventer with Benefin | Benfluralin
008660-00238 | Vigoro Deep Green Crabgrass Preventer + Lawnfood | Benfluralin
008660-00243 | Vigoro Weed and Crabgrass Preventer contains Balan | Benfluralin
009198-00169 | Andersons Golf Products Fluid Fungicide II | Triadimefon
|  | Metalaxyl
009198-00198 | Proturf Fertilizer Plus Dicot Weed Control IV | MCPA (and salts and esters)
|  | Mecoprop (and salts and esters)
009779-00084 | Riverside Diquick Herbicide | MSMA (and salts)
|  | Diuron
010163 OR-94-0053 | Metasystox-R Spray Concentrate | Oxydemeton-methyl
010163 WA-00-0022 | Prokil Dimethoate E267 | Dimethoate
010404-00070 | Eliminate 47% DG Selective Broadleaf Herbicide. | Dicamba
|  | MCPA (and salts and esters)
|  | Mecoprop (and salts and esters)
010707 OR-95-0002 | Magnacide H Herbicide | Acrolein
012455 OR-05-0022 | ZP Rodent Bait Ag | Zinc phosphide (Zn3P2)
019713-00095 | Drexel Diazinon 14G | Diazinon
019713-00560 | EPTC Technical | Carbamothioic acid, dipropyl-, S-ethyl ester
019713-00563 | Eptam Technical | Carbamothioic acid, dipropyl-, S-ethyl ester
032802-00007 | All Season Balan Granular 2.5G | Benfluralin
032802-00008 | All Season Crabgrass Preventer Plus | Benfluralin
032802-00009 | Crabgrass Preventer Plus Turf Food | Benfluralin
032802-00010 | Benefin Plus 25-3-25 Fertilizer | Benfluralin
032802-00011 | Benefin 1.3% Plus | Benfluralin
032802-00024 | Excel-N-Plus W/crabgrass Control + Lawn Food | Trifluralin
|  | Benfluralin
032802-00030 | Excel-S-Plus | Benfluralin
|  | Oryzalin
032802-00033 | Hi-Tech Crabgrass Control | Trifluralin
|  | Benfluralin
032802-00035 | Lawn Service Crabgrass Control | Trifluralin
|  | Benfluralin
032802-00040 | Proteck 58 | Trifluralin
|  | Benfluralin
034704 OR-92-0019 | Clean Crop Diuron 80 WDG Weed Killer | Diuron
034704 OR-94-0029 | Clean Crop Diuron 80 WDG Weed Killer | Diuron
034704 WA-97-0001 | Diazinon G-14 | Diazinon
034913-00004 | Sprakil D-8 Granular Weed Killer | Diuron
059623 CA-89-0021 | Rodent Bait Block - Diphacinone Treated Grain/Paraffin | Diphacinone
062719-00310 | Diuron 80DF | Diuron
062719-00311 | Diuron 4L Herbicide | Diuron
062719 OR-88-0012 | Kelthane MF Agricultural Miticide | Dicofol
062719 OR-96-0037 | Goal (r) 2XL Herbicide | Oxyfluorfen
062719 OR-97-0008 | Goal (r) 2XL Herbicide | Oxyfluorfen
062719 OR-99-0043 | Starane | Fluroxypyr
062719 WA-00-0011 | Nu-Flow M Seed Treatment Fungicide | Myclobutanil
062719 WA-00-0029 | Dithane DF Agricultural Fungicide | Mancozeb
062719 WA-02-0025 | DMA 4 Herbicide | 2,4-D, dimethylamine salt
062719 WA-96-0034 | Goal (r) 2XL Herbicide | Oxyfluorfen
062719 WA-97-0024 | Goal (r) 2XL Herbicide | Oxyfluorfen
066158 WA-92-0027 | Di-Syston 15% Granular Systemic Insecticide | Disulfoton
066222-00017 | Pyrinex Chlorpyrifos Termiticide Concentrate | Chlorpyrifos
066222-00067 | Dynex Diuron Weed Killer Wettable Powder | Diuron
066222-00068 | Dynex Liquid Diuron Weed Killer | Diuron
067650-00002 | Eco Bran 2% | Carbaryl
067650-00003 | Eco Bran 5% | Carbaryl
071711 CA-04-0017 | Applaud 70WP Insect Growth Regulator | Buprofezin
073049-00093 | SBP-1382/bioallethrin Insecticide Conc. 10%-10% Form | 2-Methyl-4-oxo-3-(2-propenyl)-2-cyclopenten-1-yl d-trans-2,2-dimethyl-3-(2-methyl-1-propenyl
|  | Resmethrin
073049-00094 | Your Brand SBP-1382/Bioallethrin (.20%+.20%) Aqueous | 2-Methyl-4-oxo-3-(2-propenyl)-2-cyclopenten-1-yl d-trans-2,2-dimethyl-3-(2-methyl-1-propenyl
|  | Resmethrin
073049-00096 | SBP-1382/Bioallethrin Insecticide Concentrate 18%-48% | 2-Methyl-4-oxo-3-(2-propenyl)-2-cyclopenten-1-yl d-trans-2,2-dimethyl-3-(2-methyl-1-propenyl
|  | Resmethrin
073049-00099 | SBP-1382/Bioallethrin Insecticide Conc. 7.5%-5% Form | 2-Methyl-4-oxo-3-(2-propenyl)-2-cyclopenten-1-yl d-trans-2,2-dimethyl-3-(2-methyl-1-propenyl
|  | Resmethrin
073049-00104 | SBP-1382/Bioallethrin Insecticide Conc. 10.10%-67.28% | 2-Methyl-4-oxo-3-(2-propenyl)-2-cyclopenten-1-yl d-trans-2,2-dimethyl-3-(2-methyl-1-propenyl
|  | Resmethrin
073049-00114 | SBP-1382/Bioallethrin Concentrate 10-5 | 2-Methyl-4-oxo-3-(2-propenyl)-2-cyclopenten-1-yl d-trans-2,2-dimethyl-3-(2-methyl-1-propenyl
|  | Resmethrin
073049-00115 | SBP-1382/Bioallethrin (0.20% + 0.10%) Aqueous Pressuriz | 2-Methyl-4-oxo-3-(2-propenyl)-2-cyclopenten-1-yl d-trans-2,2-dimethyl-3-(2-methyl-1-propenyl
|  | Resmethrin
073049-00116 | SBP-1382/Bioallethrin Concentrate 10-3.75 | 2-Methyl-4-oxo-3-(2-propenyl)-2-cyclopenten-1-yl d-trans-2,2-dimethyl-3-(2-methyl-1-propenyl
|  | Resmethrin
073049-00117 | SBP 1382/Bioallethrin Concentrate 10-2.5 | 2-Methyl-4-oxo-3-(2-propenyl)-2-cyclopenten-1-yl d-trans-2,2-dimethyl-3-(2-methyl-1-propenyl
|  | Resmethrin
073049-00118 | SBP-1382/Bioallethrin (0.20% + 0.075%) Aqueous Pressuri | 2-Methyl-4-oxo-3-(2-propenyl)-2-cyclopenten-1-yl d-trans-2,2-dimethyl-3-(2-methyl-1-propenyl
|  | Resmethrin
073049-00119 | SBP-1382/Bioallethrin (.2+.05) Aqueous Pressurized Spra | 2-Methyl-4-oxo-3-(2-propenyl)-2-cyclopenten-1-yl d-trans-2,2-dimethyl-3-(2-methyl-1-propenyl
|  | Resmethrin
073049-00120 | Bioram 7.5% - 12.5% Insecticide Concentrate | 2-Methyl-4-oxo-3-(2-propenyl)-2-cyclopenten-1-yl d-trans-2,2-dimethyl-3-(2-methyl-1-propenyl
|  | Permethrin
073049-00121 | Bioram 0.15% + 0.25% Insecticide Aqueous Pressurized Sp | 2-Methyl-4-oxo-3-(2-propenyl)-2-cyclopenten-1-yl d-trans-2,2-dimethyl-3-(2-methyl-1-propenyl
|  | Permethrin
073049-00122 | Bioram 10% - 10% Insecticide Concentrate | 2-Methyl-4-oxo-3-(2-propenyl)-2-cyclopenten-1-yl d-trans-2,2-dimethyl-3-(2-methyl-1-propenyl
|  | Permethrin
073049-00123 | Pramex/Bioallethrin Insecticide Aqueous Pressurized Spray | 2-Methyl-4-oxo-3-(2-propenyl)-2-cyclopenten-1-yl d-trans-2,2-dimethyl-3-(2-methyl-1-propenyl
|  | Permethrin
073049-00127 | SBP-1382/Bioallethrin (0.2 + 0.4) II Professional | 2-Methyl-4-oxo-3-(2-propenyl)-2-cyclopenten-1-yl d-trans-2,2-dimethyl-3-(2-methyl-1-propenyl
|  | Resmethrin
073049-00128 | SBP-1382/Bioallethrin/Piperonyl Butoxide | 2-Methyl-4-oxo-3-(2-propenyl)-2-cyclopenten-1-yl d-trans-2,2-dimethyl-3-(2-methyl-1-propenyl
|  | Piperonyl butoxide
|  | Resmethrin
073049-00129 | SBP-1382/Bioallethrin 19.268-48.202 Concentrate | 2-Methyl-4-oxo-3-(2-propenyl)-2-cyclopenten-1-yl d-trans-2,2-dimethyl-3-(2-methyl-1-propenyl
|  | Resmethrin
073049-00130 | SBP-1382/Bioallethrin (0.10% + 0.25%) Aqueous Pressuriz | 2-Methyl-4-oxo-3-(2-propenyl)-2-cyclopenten-1-yl d-trans-2,2-dimethyl-3-(2-methyl-1-propenyl
|  | Resmethrin
073049-00136 | SBP-1382/Esbiothrin/P.B.O. Insect. Aq. Press. Spray O.2 | Bioallethrin
|  | Piperonyl butoxide
|  | Resmethrin
073049-00137 | SBP-1382/Esbiothrin/piperonyl Butoxide Insect. Conc. 5% | 2-Methyl-4-oxo-3-(2-propenyl)-2-cyclopenten-1-yl d-trans-2,2-dimethyl-3-(2-methyl-1-propenyl
|  | Piperonyl butoxide
|  | Resmethrin
073049-00138 | SBP-1382/Esbioth./Piper.Butox. Insect. Conc. 6.45%+6.45 | 2-Methyl-4-oxo-3-(2-propenyl)-2-cyclopenten-1-yl d-trans-2,2-dimethyl-3-(2-methyl-1-propenyl
|  | Piperonyl butoxide
|  | Resmethrin
073049-00139 | SBP-1382/Esbiothrin/P.B.O. Insect. Aq. Press. Spray 0.2 | 2-Methyl-4-oxo-3-(2-propenyl)-2-cyclopenten-1-yl d-trans-2,2-dimethyl-3-(2-methyl-1-propenyl
|  | Piperonyl butoxide
|  | Resmethrin
073049-00141 | SBP-1382/Esbiothrin/P.B.O. Insect. Conc. 8% - 7.8% - 31 | 2-Methyl-4-oxo-3-(2-propenyl)-2-cyclopenten-1-yl d-trans-2,2-dimethyl-3-(2-methyl-1-propenyl
|  | Piperonyl butoxide
|  | Resmethrin
073049-00150 | SBP-1382/Bioallethrin/PBO Insecticide Conc. 11.9%-3.4%- | 2-Methyl-4-oxo-3-(2-propenyl)-2-cyclopenten-1-yl d-trans-2,2-dimethyl-3-(2-methyl-1-propenyl
|  | Piperonyl butoxide
|  | Resmethrin
073049-00151 | SBP-1382/Bioallethrin/pip.butox. Insecticide .35% + .10 | Bioallethrin
|  | Piperonyl butoxide
|  | Resmethrin
073049-00249 | Wipe and Spray Concentrate | Butoxypolypropylene glycol
|  | Piperonyl butoxide
|  | Pyrethrins
073049-00272 | Esbiothrin 7% Coil Base | 2-Methyl-4-oxo-3-(2-propenyl)-2-cyclopenten-1-yl d-trans-2,2-dimethyl-3-(2-methyl-1-propenyl
073049-00279 | Multi-Purpose Alleviate Insecticide Concentrate | 2-Methyl-4-oxo-3-(2-propenyl)-2-cyclopenten-1-yl d-trans-2,2-dimethyl-3-(2-methyl-1-propenyl
|  | Piperonyl butoxide
073049-00280 | Alleviate General Purpose Household Spray | 2-Methyl-4-oxo-3-(2-propenyl)-2-cyclopenten-1-yl d-trans-2,2-dimethyl-3-(2-methyl-1-propenyl
|  | Piperonyl butoxide
073049-00281 | Alleviate Garden Spray Concentrate | 2-Methyl-4-oxo-3-(2-propenyl)-2-cyclopenten-1-yl d-trans-2,2-dimethyl-3-(2-methyl-1-propenyl
|  | Piperonyl butoxide
073049-00282 | Alleviate Small Animal and Kennel Insecticide EC | 2-Methyl-4-oxo-3-(2-propenyl)-2-cyclopenten-1-yl d-trans-2,2-dimethyl-3-(2-methyl-1-propenyl
|  | Piperonyl butoxide
073049-00283 | Alleviate Oil Concentrate | 2-Methyl-4-oxo-3-(2-propenyl)-2-cyclopenten-1-yl d-trans-2,2-dimethyl-3-(2-methyl-1-propenyl
|  | Piperonyl butoxide
073049-00284 | Alleviate General Purpose Spray | 2-Methyl-4-oxo-3-(2-propenyl)-2-cyclopenten-1-yl d-trans-2,2-dimethyl-3-(2-methyl-1-propenyl
|  | Piperonyl butoxide
073049-00288 | Alleviate W.B. Concentrate | 2-Methyl-4-oxo-3-(2-propenyl)-2-cyclopenten-1-yl d-trans-2,2-dimethyl-3-(2-methyl-1-propenyl
|  | Piperonyl butoxide
073049-00294 | Alleviate Aqueous I | 2-Methyl-4-oxo-3-(2-propenyl)-2-cyclopenten-1-yl d-trans-2,2-dimethyl-3-(2-methyl-1-propenyl
|  | Piperonyl butoxide
073049-00356 | SBP-1382 Bioallethrin(.20% + .40%) Aqueous Pressurized | 2-Methyl-4-oxo-3-(2-propenyl)-2-cyclopenten-1-yl d-trans-2,2-dimethyl-3-(2-methyl-1-propenyl
|  | Resmethrin
073049 WA-04-0029 | Novodor Biological Insecticide Flowable Concentrate | Bacillus thuringiensis subsp. tenebrionis

A request to waive the 180-day comment period has been received for the following registrations: 7401-72, 7401-81, 7401-83, 7401-148, 7401-154, 7401-210, 7401-291, 7401-310, 7401-334, 7401-386, 73049-93, 73049-94, 73049-96, 73049-99, 73049-104, 73049-114, 73049-115, 73049-116, 73049-117, 73049-118, 73049-119, 73049-120, 73049-121, 73049-122, 73049-123, 73049-127, 73049-128, 73049-129, 73049-130, 73049-136, 73049-137, 73049-138, 73049-139, 73049-141, 73049-150, 73049-151, 73049-249, 73049-272, 73049-279, 73049-280, 73049-281, 73049-282, 73049-283, 73049-284, 73049-288, 73049-294, 73049-356. Therefore, the 30-day comment period will apply for these registrations.

Unless a request is withdrawn by the registrant by December 26, 2006 or by July 28, 2006 for those registrations with a 30-day comment period, orders will be issued canceling all of these registrations. A person may submit comments to EPA as provided in ADDRESSES and Unit I. of the SUPPLEMENTARY INFORMATION above. However, because FIFRA section 6(f)(1)(A) allows a registrant to request cancellation of its pesticide registrations at any time, users or anyone else desiring retention of those pesticides listed in Table 1 may want to contact the applicable registrant in Table 2 directly during this period to request that the registrant retain the pesticide registration or to discuss the possibility of transferring the registration. A user seeking to apply for its own registration of that pesticide may submit comments requesting EPA not to cancel a registration until its “me-too” registration is granted.

Table 2 of this unit includes the names and addresses of record for all registrants of the products in Table 1 of this unit, in sequence by EPA company number:

Table 2—Registrants Requesting Voluntary Cancellation
EPA Company no. | Company Name and Address
000004 | Bonide Products,Inc., 6301 Sutliff Rd., Oriska, NY 13424.
000070 | Value Gardens Supply, LLC, d/b/a Garden Value Supply, PO Box 585, Saint Jose, MO 64502.
000241 | BASF Corp., PO Box 13528, Research Triangle Pa, NC 277093528.
000264 | Bayer Cropscience LP, 2 T.W. Alexander Drive, Research Triangle Pa, NC 27709.
000279 | FMC Corp. Agricultural Products Group, 1735 Market St, Philadelph, PA 19103.
000352 | E.I. Du Pont De Nemours, Inc., Dupont Crop Protection (S300/427), Po Box 30, Newa, DE 197140030.
000400 | Chemtura USA Corp., Attn: Willard F. Cummings (mail Code 2-4), Middlebu, CT 06749.
000432 | Bayer Environmental Science, A Business Group of Bayer Cropscience LP, PO Box 12014, Research Triangle Pa, NC 27709.
000464 | Dow Chemical Co., The, Attn: George Paul, 1803 Building, Midla, MI 48674.
000524 | Monsanto Co, Agent For: Monsanto Co., 1300 I Street, Nw, Suite 450 E., Washingt, DC 20005.
000769 | Value Gardens Supply, LLC, d/b/a Value Garden Supply, PO Box 585, Saint Jose, MO 64502.
000829 | Southern Agricultural Insecticides, Inc., PO Box 218, Palmet, FL 34220.
001381 | Agriliance, LLC, PO Box 64089, St. Pa, MN 551640089.
001386 | Universal Cooperatives Inc., 1300 Corporate Center Curve, Eag, MN 55121.
001812 | Dupont Crop Protection/Stine-Haskell Research Center, Agent For: Griffin L.L.C., PO Box 30, Newa, DE 197140030.
004581 | Cerexagri, Inc., 630 Freedom Business Center, Suite 402, King Of Pruss, PA 19406.
005481 | Amvac Chemical Corp., Attn: Jon C. Wood, 4695 Macarthur Ct., Suite 1250, Newport Bea, CA 926601706.
007173 | Liphatech, Inc., 3600 W. Elm Street, Milwauk, WI 53209.
007401 | Brazos Associates, Inc., Agent For: Voluntary Purchasing Group Inc., 1806 Auburn Drive, Carrollt, TX 750071451.
008660 | United Industries Corp., d/b/a Sylorr Plant Corp., PO Box 142642, St. Lou, MO 631140642.
009198 | The Andersons Lawn Fertilizer Division, Inc., dba/ Free Flow Fertilizer, PO Box 119, Maum, OH 43537.
009779 | Agriliance, LLC, PO Box 64089, St Pa, MN 551640089.
010163 | Gowan Co, PO Box 5569, Yu, AZ 853665569.
010404 | Lesco Inc., 1301 E. 9th Street, Suite 1300, Clevela, OH 441141849.
010707 | Baker Petrolite Corp., 12645 W. Airport Blvd., Sugar La, TX 77478.
012455 | Bell Laboratories Inc., 3699 Kinsman Blvd, Madis, WI 53704.
019713 | Drexel Chemical Co., PO Box 13327, Memph, TN 381130327.
032802 | Howard Johnson's Enterprises Inc., 700 W. Virginia St Ste 222, Milwauk, WI 532041548.
034704 | Loveland Products, Inc., PO Box 1286, Greel, CO 80632.
034913 | SSI Maxim Co., Inc., PO Box 1954, Kilgo, TX 75663.
059623 | California Dept. of Food and Agriculture, Office of Pesticide Consultation and Analysis, 1220 N Street, Sacramen, CA 95814.
062719 | Dow Agrosciences LLC, 9330 Zionsville Rd 308/2E, Indianapol, IN 462681054.
066158 | Columbia Basin Vegetable Seed Assn, PO Box 53, Quin, WA 98848.
066222 | Makhteshim-Agan of North America Inc., 4515 Falls of Neuse Rd Ste 300, Ralei, NC 27609.
067650 | John W. Kennedy Consultants, Agent For: Peacock Industries (US) Inc., 101 Beachside Drive, Stevensvil, MD 21666.
071711 | Nichino America, Inc., 4550 New Linden Hill Rd., Suite 501, Wilmingt, DE 19808.
073049 | Valent Biosciences Corp., 870 Technology Way, Suite 100, Libertyvil, IL 600486316.

III. What is the Agency's Authority for Taking this Action?

Section 6(f)(1)(A) of FIFRA provides that a registrant of a pesticide product may at any time request that any of its pesticide registrations be canceled. FIFRA further provides that, before acting on the request, EPA must publish a notice of receipt of any such request in the Federal Register and provide for a 30-day public comment period. In addition, where a pesticide is registered for a minor agricultural use and the Administrator determines that cancellation or termination of that use would adversely affect the availability of the pesticide for use, FIFRA section 6(f)(1)(C) requires EPA to provide a 180-day period before approving or rejecting the section 6(f) request unless:

1. The registrant requests a waiver of the 180-day period, or

2. The Administrator determines that continued use of the pesticide would pose an unreasonable adverse effect on the environment.

IV. Procedures for Withdrawal of Request

Registrants who choose to withdraw a request for cancellation must submit such withdrawal in writing to the person listed under FOR FURTHER INFORMATION CONTACT, postmarked before December 26, 2006 or before July 28, 2006 for those registrations where the 180-day comment period has been waived. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: June 16, 2006.
Robert Forrest,
Acting Director, Information Technology and Resources Management Division, Office of Pesticide Programs.

[FR Doc. 06-5674 Filed 6-27-06; 8:45 am]

BILLING CODE 6560-50-S